DEPARTMENT OF ENERGY

Federal Energy Regulatory Commission

Combined Notice of Filings #1

Take notice that the Commission received the following electric corporate filings:

Docket Numbers: EC15-193-000.

Applicants: JPM Capital Corporation, HA Wind I LLC, Morgan Stanley Wind LLC.

Description: Application of JPM Capital Corporation, et. al. for Approval Under Section 203 of the Federal Power Act.

Filed Date: 8/20/15.

Accession Number: 20150820-5228.

Comments Due: 5 p.m. ET 9/10/15.

Take notice that the Commission received the following electric rate filings:

Docket Numbers: ER15-1509-002.

Applicants: ISO New England Inc.

Description: Compliance filing: Compliance Filing Concerning DNE Dispatch Changes—ER15-1509-___to be effective 4/10/2016.

Filed Date: 8/21/15.

Accession Number: 20150821-5035.

Comments Due: 5 p.m. ET 9/11/15.

Docket Numbers: ER15-1579-001.

Applicants: 67RK 8me LLC.

Description: Notice of Non-Material Change in Status of 67RK 8me LLC.

Filed Date: 8/21/15.

Accession Number: 20150821-5099.

Comments Due: 5 p.m. ET 9/11/15.

Docket Numbers: ER15-1582-001; ER15-1914-001; ER15-762-002; ER15-760-002; ER15-1896-001.

Applicants: 65HK 8me LLC, 87RL 8me LLC, Sierra Solar Greenworks LLC, Western Antelope Blue Sky Ranch A LLC, Eden Solar LLC.

Description: Notice of Non-Material Change in Status of 67HK 8me LLC, et al.

Filed Date: 8/21/15.

Accession Number: 20150821-5130.

Comments Due: 5 p.m. ET 9/11/15.

Docket Numbers: ER15-2499-000.

Applicants: California Independent System Operator Corporation.

Description: § 205(d) Rate Filing: 2015-08-20 Mesquite Solar 2 LGIA to be effective 10/21/2015.

Filed Date: 8/21/15.

Accession Number: 20150821-5000.

Comments Due: 5 p.m. ET 9/11/15.

Docket Numbers: ER15-2500-000.

Applicants: Southern California Edison Company.

Description: § 205(d) Rate Filing: Executed GIA & Executed Distrib Serv Agmt Edom Hills to be effective 10/1/2015.

Filed Date: 8/21/15.

Accession Number: 20150821-5002.

Comments Due: 5 p.m. ET 9/11/15.

Docket Numbers: ER15-2501-000.

Applicants: Midcontinent Independent System Operator, Inc.

Description: § 205(d) Rate Filing: 2015-08-21_SA 2219 ATC-METC Transmission IA Resubmittal of Original Agreement to be effective 7/1/2010.

Filed Date: 8/21/15.

Accession Number: 20150821-5058.

Comments Due: 5 p.m. ET 9/11/15.

Docket Numbers: ER15-2502-000.

Applicants: Kentucky Utilities Company.

Description: § 205(d) Rate Filing: Settlement Modifications to Bardstown and Nicholasville wholesale con to be effective 6/20/2014.

Filed Date: 8/21/15.

Accession Number: 20150821-5108.

Comments Due: 5 p.m. ET 9/11/15.

Docket Numbers: ER15-2503-000.

Applicants: NorthWestern Corporation.

Description: § 205(d) Rate Filing: Revised Rate Schedule FERC No. 244 (MT) to be effective 8/24/2015.

Filed Date: 8/21/15.

Accession Number: 20150821-5119.

Comments Due: 5 p.m. ET 9/11/15.

Docket Numbers: ER15-2504-000.

Applicants: Public Service Company of New Mexico.

Description: § 205(d) Rate Filing: Modifications to Rate Schedule No. 144 ? SJPPA Restructuring Amendment to be effective 12/31/9998.

Filed Date: 8/21/15.

Accession Number: 20150821-5122.

Comments Due: 5 p.m. ET 9/11/15.

Docket Numbers: ER15-2505-000.

Applicants: Southern California Edison Company.

Description: § 205(d) Rate Filing: Amended LGIA Desert Stateline, LLC to be effective 8/22/2015.

Filed Date: 8/21/15.

Accession Number: 20150821-5125.

Comments Due: 5 p.m. ET 9/11/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 21, 2015.
Nathaniel J. Davis, Sr.,
Deputy Secretary.

[FR Doc. 2015-21229 Filed 8-26-15; 8:45 am]

BILLING CODE 6717-01-P